DEPARTMENT OF AGRICULTURE

Forest Service

North Gifford Pinchot National Forest Resource Advisory Committee Meeting Notice

AGENCY: Forest Service, USDA.

ACTION: Notice of meeting.

SUMMARY: The North Gifford Pinchot National Forest Resource Advisory Committee will meet on Monday, September 13, 2004 at the Depot Conference Room, located in the Amtrak Building of the Train Depot, 210 Railroad Ave., Centralia, Washington, 98531. The meeting will begin at 10 a.m. and continue until 5 p.m. The purpose of the meeting is to review 14 proposals for Title II funding of Forest projects under the Secure Rural Schools and Community Self-Determination Act of 2000.

All North Gifford Pinchot National Forest Resource Advisory Committee meetings are open to the public. Interested citizens are encouraged to attend. The “open forum” provides opportunity for the public to bring issues, concerns, and discussion topics to the Advisory Committee. The “open forum” is scheduled to occur at 10:30 a.m. Interested speakers will need to register prior to the open forum period. The committee welcomes the public's written comments on committee business at any time.

FOR FURTHER INFORMATION CONTACT: Direct questions regarding this meeting to Roger Peterson, Public Affairs Specialist, at (360) 891-5007, or write Forest Headquarters Office, Gifford Pinchot National Forest, 10600 NE., 51st Circle, Vancouver, WA 98682.

Dated: August 9, 2004.
Lynn Burditt,
Deputy Forest Supervisor.

[FR Doc. 04-18583 Filed 8-12-04; 8:45 am]

BILLING CODE 3410-11-M